NATIONAL SCIENCE FOUNDATION

Notice of Permit Applications Received Under the Antarctic Conservation Act of 1978 (Pub. L. 95-541)

AGENCY: National Science Foundation.

ACTION: Notice of Permit Applications Received under the Antarctic Conservation Act of 1978, Pub.L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by May 8, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows:

Permit Application No. 2009-002

1. Applicant: Peter West, Office of Legislative and Public Affairs, Suite 1245, National Science Foundation, 4201 Wilson Boulevard, Arlington, VA 22230.

Activity for Which Permit Is Requested

Enter Antarctic Specially Protected Areas. The applicant plans to enter Beaufort Island (ASPA 105), Cape Royds (ASPA 121), Arrival Heights (ASPA 122), Canada Glacier (ASPA 131), Cape Evans (ASPA 155), Backdoor Bay, Cape Royds (ASPA 157), and Hut Point (ASPA 158) to escort media personnel covering scientists conducting research in these various locations.

Location

Beaufort Island (ASPA 105), Cape Royds (ASPA 121), Arrival Heights (ASPA 122), Canada Glacier (ASPA 131), Cape Evans (ASPA 155), Backdoor Bay, Cape Royds (ASPA 157), and Hut Point (ASPA 158).

Dates

October 1, 2008 to September 30, 2013.

Nadene G. Kennedy,
Permit Officer, Office of Polar Programs.

[FR Doc. E8-7276 Filed 4-7-08; 8:45 am]

BILLING CODE 7555-01-P